DEPARTMENT OF COMMERCE

Foreign-Trade Zones Board

[B-83-2021]

Foreign-Trade Zone (FTZ) 7—Mayaguez, Puerto Rico; Notification of Proposed Production Activity; CooperVision Manufacturing PR LLC (Disposable Contact Lenses); Juana Diaz, Puerto Rico

CooperVision Manufacturing PR LLC submitted a notification of proposed production activity to the FTZ Board (the Board) for its facility in Juana Diaz, Puerto Rico, within FTZ 7. The notification conforming to the requirements of the Board's regulations (15 CFR 400.22) was received on December 16, 2021.

Pursuant to 15 CFR 400.14(b), FTZ production activity would be limited to the specific foreign-status material/component described in the submitted notification (summarized below) and subsequently authorized by the Board. The benefits that may stem from conducting production activity under FTZ procedures are explained in the background section of the Board's website—accessible via www.trade.gov/ftz. The proposed material/component would be added to the production authority the Board previously approved for the operation, as reflected on the Board's website.

The proposed foreign-status material/component is modified organosiloxane liquid (duty rate is 3.0%). The request indicates that the material/component is subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is February 7, 2022.

A copy of the notification will be available for public inspection in the “Online FTZ Information System” section of the Board's website.

For further information, contact Juanita Chen at juanita.chen@trade.gov.

Dated: December 21, 2021.
Andrew McGilvray,
Executive Secretary.

[FR Doc. 2021-28169 Filed 12-27-21; 8:45 am]

BILLING CODE 3510-DS-P